DEPARTMENT OF ENERGY

Federal Energy Regulatory Commission

[Docket No. RP03-626-000]

Iroquois Gas Transmission System, L.P.; Notice Filing

October 2, 2003.

Take notice that on September 30, 2003, Iroquois Gas Transmission System, L.P. (Iroquois) tendered for filing its report relating to its Deferred Asset Surcharge. Iroquois states that there is no change in the Deferred Asset Surcharge, no tariff sheet is being submitted.

Iroquois states that it is filing the supporting workpapers as part of its annual update of its Deferred Asset Surcharge to reflect the annual revenue requirement associated with the Deferred Asset for the amortization period commencing November 1, 2003. Iroquois further states as shown in those workpapers, there is no change in the rate for the Deferred Asset Surcharge for the period commencing November 1, 2003; accordingly, no revised tariff sheet is necessary.

Iroquois states that copies of its filing were served on all jurisdictional customers and interested state commissions.

Any person desiring to be heard or to protest said filing should file a motion to intervene or a protest with the Federal Energy Regulatory Commission, 888 First Street, NE., Washington, DC 20426, in accordance with § 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: October 14, 2003.

Magalie R. Salas,
Secretary.

[FR Doc. E3-00027 Filed 10-8-03; 8:45 am]

BILLING CODE 6717-01-P